DEPARTMENT OF ENERGY

Federal Energy Regulatory Commission

Sunshine Act Meeting; Notice

February 9, 2006.

The following notice of meeting is published pursuant to section 3(a) of the government in the Sunshine Act (Pub. L. 94-409), 5 U.S.C 552b:

Agency Holding Meeting: Federal Energy Regulatory Commission.

Date and Time: February 16, 2006; 10 a.m.

Place: Room 2C, 888 First Street, NE., Washington, DC 20426.

Status: Open.

Matters to be Considered: Agenda.

*Note—Items listed on the agenda may be deleted without further notice.

Contact Person for More Information: Magalie R. Salas, Secretary, Telephone (202) 502-8400. For a recorded listing item stricken from or added to the meeting, call (202) 502-8627.

This is a list of matters to be considered by the Commission. It does not include a listing of all papers relevant to the items on the agenda; however, all public documents may be examined in the Public Reference Room.

902nd Meeting; Regular Meeting
[February 16, 2006; 10 a.m.]
Item No. | Docket No. | Company
Administrative Agenda
A-1 | AD02-1-000 | Agency Administrative Matters.
A-2 | AD02-7-000 | Customer Matters, Reliability, Security and Market Operations.
A-3 | AD06-3-000 | Energy Market Update.
Energy, Markets, and Reliability—Electric
E-1 | OMITTED.
E-2 | OMITTED.
E-3 | OMITTED.
E-4 | EL06-16-000 | Investigation of Terms and Conditions of Public Utility Market-Based Rate Authorizations.
E-5 | ER06-365-000 | Entergy Services, Inc., acting as agent for Entergy Operating Companies.
E-6 | ER06-375-000 | Southern Company Services, Inc.
E-7 | ER06-360-000, ER06-361-000, ER06-362-000, ER06-363-000, ER06-372-000, ER06-373-000 | Midwest Independent Transmission System Operator, Inc.
| ER06-366-000 | Midwest Independent Transmission System Operator, Inc. and the Transmission Owners of the Midwest Independent Transmission System Operator, Inc.
E-8 | ER06-348-000 | DTE East China, L.L.C.
E-9 | ER01-1099-010, ER01-1099-011, ER99-3855-006, ER03-1368-003 | Cleco Power LLC.
| ER99-2300-008, ER03-1369-003 | Cleco Marketing & Trading LLC.
| ER99-2928-007, ER99-2928-008, ER03-1371-003 | Cleco Evangeline LLC.
| ER01-1397-007, ER01-1397-008, ER03-1370-004 | Perryville Energy Partners, L.L.C.
| ER02-1406-011, ER02-1406-012, ER03-1372-004, EL06-4-000 | Acadia Power Partners, LLC.
E-10 | ER96-1085-008, ER96-1085-009, EL05-122-000 | South Carolina Electric and Gas Company.
E-11 | RM01-10-005 | Standards of Conduct for Transmission Providers.
E-12 | ER02-2001-005 | Electric Quarterly Reports.
| ER03-622-000 | Capital Power, Inc.
| ER02-2338-000 | Energy Investments Management, Inc.
| ER04-683-000 | New Light Energy, LLC.
| ER03-101-000 | Premier Energy Marketing, LLC.
| ER02-1499-000 | Sprague Energy Corp.
| ER02-1595-000 | TME Energy Services.
E-13 | ER02-2001-004 | Electric Quarterly Reports.
| ER04-0292-000 | Bravo Energy Resources, LLC.
| ER04-0646-000 | Core Equities, Inc.
| ER02-0388-000 | HC Power Marketing.
| ER03-0827-000 | Maxim Energy Partners, LLC.
| ER98-4301-000 | Mountainview Power Company.
| ER02-1324-000 | Mt. Carmel Cogen, Inc.
| ER03-0182-000 | Phoenix Energy Associates, L.L.C.
| ER03-0261-000 | USP&G (Pennsylvania), Ltd.
E-14 | AC04-88-001 | NewCorp Resources Electric Cooperative.
E-15 | AC04-71-001 | Wells Rural Electric Company.
E-16 | ER05-150-002, ER05-150-004 | California Independent System Operator.
E-17 | RM05-6-001 | Commission Authorization to Hold Interlocking Positions.
Energy, Markets, and Reliability—Miscellaneous
M-1 | RM06-2-000 | Procedures for Disposition of Contested Audit Matters.
M-2 | RM06-13-000 | Compliance for Public Utility Market-Based Rate Authorization Holders.
M-3 | RM06-14-000 | Revisions to Record Retention Requirements for Unbundled Sales Service, Persons Holding Blanket Marketing Certificates, and Public Utility Market-Based Rate Authorization Holders.
Energy, Markets, and Reliability—Gas
G-1 | RM06-5-000 | Amendments to Codes of Conduct for Unbundled Sales Service and for Persons Holding Blanket Marketing Certificates.
G-2 | RP05-552-001, RP05-552-002 | East Tennessee Natural Gas, LLC.
G-3 | RP05-559-001, RP05-559-002 | Algonquin Gas Transmission, LLC.
G-4 | RP05-553-002, RP05-553-001 | Egan Hub Storage, LLC.
G-5 | RP02-309-006 | Sunoco, Inc. (R&M) v. Transcontinental Gas Pipe Line Corporation.
G-6 | TS04-200-000 | CenterPoint Energy Gas Transmission Company.
| TS04-193-000 | CenterPoint—Mississippi River Transmission Corporation.
| TS05-4-000 | Islander East Pipeline Company, L.L.C.
G-7 | RP05-286-001, RP05-286-002 | Northwest Pipeline Corporation.
Energy Projects—Hydro
H-1 | P-2232-476 | Duke Power.
H-2 | P-2232-475 | Duke Power.
H-3 | P-2100-139 | California Department of Water Resources.
H-4 | P-11882-003 | Fall River Rural Electric Cooperative, Inc.
H-5 | P-2233-047 | Portland General Electric Company.
H-6 | P-12570-001, P-12563-001, P-12587-001 | Appalachian Rivers Resource Enhancement, LLC.
H-7 | P-12552-003 | Marseilles Land and Water Company.
H-8 | P-2232-500 | Duke Power.
Energy Projects—Certificates
C-1 | CP02-60-007 | Trunkline LNG Company, LLC.
C-2 | CP05-144-001 | Columbia Gas Transmission Corporation.
| CP05-150-001, CP05-151-001, CP05-152-001 | Hardy Storage Company, LLC.

Magalie R. Salas,
Secretary.

A free Webcast of this event is available through http://www.ferc.gov. Anyone with Internet access who desires to view this event can do so by navigating to http://www.ferc.gov's Calendar of Events and locating this event in the Calendar. The event will contain a link to its Webcast. The Capitol Connection provides technical support for the free Webcasts. It also offers access to this event via television in the DC area and via phone bridge for a fee. If you have any questions, visit http://www.CapitolConnection.org or contact Danelle Perkowski or David Reininger at 703-993-3100.

Immediately following the conclusion of the Commission Meeting, a press briefing will be held in Hearing Room 2. Members of the public may view this briefing in the Commission Meeting overflow room. This statement is intended to notify the public that the press briefings that follow Commission meetings may now be viewed remotely at Commission headquarters, but will not be telecast through the Capitol Connection service.

[FR Doc. 06-1436 Filed 2-10-06; 4:23 pm]

BILLING CODE 6717-01-P